DEPARTMENT OF HOUSING AND URBAN DEVELOPMENT

[Docket No. FR-5386-N-15]

Notification of a New Privacy Act System of Records, Effort to Outcomes—Case Management System for the Disaster Housing Assistance Program (DHAP-IKE)

AGENCY: Office of the Chief Information Officer, HUD.

ACTION: Notification of a New Privacy Act System of Records.

SUMMARY: HUD proposes to create a new Privacy Act System of Records as required under the Privacy Act (5 U.S.C. 552a), as amended. The new records system is the Efforts to Outcomes (ETO) system, which contains the data on families transferred to HUD by the Federal Emergency Management Agency (FEMA) for participation in HUD's DHAP-Ike . Pursuant to FEMA these families are deemed eligible to receive rental housing assistance and on-going case management services, due to the catastrophic damage caused by Hurricanes Gustav or Ike . The purpose of the ETO application is to capture and monitor pertinent data relating to family self-sufficiency, permanent housing status, service needs, and to facilitate on-going tracking and management of these services, leading to greater self-sufficiency for participants when the DHAP-Ike ends.

DATES: Effective Date: The Effective date shall begin January 28, 2011 or 40 days from the date the report of the new records system is submitted to OMB and Congress.

Comments Due Date: January 28, 2011.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: Donna Robinson-Staton, Chief Privacy Officer, 451 Seventh Street, SW., Room 2256, Washington, DC 20410, Telephone Number (202) 402-8076. (This is not a toll-free number.) A telecommunication device for hearing-and speech-impaired individuals (TTY) is available at (800) 877-8339 (Federal Information Relay Service).

SUPPLEMENTARY INFORMATION: Pursuant to the Privacy Act of 1974 (5 U.S.C. 552a), as amended, notice is given that HUD proposes to establish a new system of records, the Efforts to Outcome System. Title 5 U.S.C. 552a(e)(4) and (11) provide that the public be afforded a 30-day period in which to comment on the new system of records. The new system report was submitted to the Office of Management and Budget (OMB), the Senate Committee on Governmental Affairs, and the House Committee on Government Reform pursuant to paragraph 4c of Appendix 1 to OMB Circular No. A-130, “Federal Responsibilities for Maintaining Records About Individuals,” July 25, 1994 (59 FR 37914).

Authority: 5 U.S.C. 552a, 88 Stat. 1896; 42 U.S.C. 3535(d).

Dated: December 20, 2010.
Jerry E. Williams,
Chief Information Officer.

HUD/PIH-8

SYSTEM NAME:

Efforts to Outcome Case Management Tracking System for DHAP-Ike.

SYSTEM LOCATION:

Baltimore, Maryland.

CATEGORIES OF INDIVIDUALS COVERED BY THE SYSTEM:

Individuals who are covered by this system are individuals and families displaced by Hurricanes Gustav or Ike, who receive rental subsidy through the DHAP-Ike and agree to all program requirements including case management.

CATEGORIES OF RECORDS IN THE SYSTEM:

Files contain identifying information about program participants and their household members such as name, social security number, and current address. In addition, the files contain information about education level, employment and training needs, elderly and disability status, social service needs and service referrals. The client provides information regarding education level, employment and training, disability status and social service needs as information that the case manager may use to assess any barriers to permanent housing attainment and/or increased self-sufficiency. The case manager uses this information in order to identify appropriate service referrals, to help prepare clients for the eventual end of the DHAP-Ike in March 2011.

AUTHORITY FOR MAINTENANCE OF THE SYSTEM:

Legal authority for DHAP is based on the Department of Homeland Security's general grant authority under section 102(b)(2) of the Homeland Security Act, 6 U.S.C. 112, and sections 408(b)(1), 426 and 306(a) of the Robert T. Stafford Disaster Relief and Emergency Assistance Act (Stafford Act), 42 U.S.C. 5174(b)(1), 5189(d) and 5149(a), and HUD's 2009 Appropriations Act modified Section 904 of the Stewart B. McKinney Act of 1988, as amended, to include Disaster Housing Assistance Program Ike (DHAP-Ike) as a “program” of HUD, respectively.

PURPOSES:

ETO captures pertinent data relating to family self-sufficiency, permanent housing status and service needs. ETO supports DHAP-Ike grantees in their case management efforts and HUD staff in their program monitoring activities and providing required reports to FEMA in fulfillment of its responsibilities outlined within the Inter Agency Agreement (IAA). The system was procured through contract number: C-DEN-02332. The system allows DHAP-Ike grantees to implement and report case management services for FEMA's DHAP-Ike program, for which HUD is the servicing agent. This system will assist with the administration of rental housing assistance and case management services to individuals and families whose residences have been rendered uninhabitable as a result of Hurricanes Gustav and Ike. The data stored in this system of records may be used for research and statistical purposes. In such cases, data presented in any research report will be aggregated to a level that does not disclose information that can be used to identify any individual represented in the system.

ROUTINE USES OF RECORDS MAINTAINED IN THE SYSTEM, INCLUDING CATEGORIES OF USERS AND THE PURPOSES OF SUCH USES:

In addition to those disclosures generally permitted under 5 U.S.C. 552a(b) of the Privacy Act other routine uses include:

(a) To Case Managers—for caseload management and to track progress and outcomes of individuals enrolled in the DHAP-Ike;

(b) To PHAs to monitor outcomes and monitor case management activities provided at the local level;

(c) To FEMA—quarterly data reporting as required under the IAA to monitor program activities at the national level;

(d) To HUD or individuals under contract, grant or cooperative agreement with HUD, to monitor PHA efforts and compliance requirements, facilitate technical assistance and for research and evaluation of national program outcomes; and

(e) To HUD or individuals under contract, grant or cooperative agreement with HUD to monitor PHA activities and facilitate technical assistance to DHAP-Ike grantees.

POLICIES AND PRACTICES FOR STORING, RETRIEVING, ACCESSING, RETAINING, AND DISPOSING OF RECORDS IN THE SYSTEM:

Storage:

Records are stored electronically on a computer server located at SunGard, 1500 Spring Garden St., 3rd Floor, Philadelphia, PA 19130.

RETRIEVABILITY:

Records are retrieved by PHA name, participant name, Social Security Number, FEMA Number, city, zip code, or general demographic characteristics. However, the general search method is by last name.

SAFEGUARDS:

Records are maintained on a secure computer network protected by a firewall. Access to the system is restricted to authorized users only, requires a user ID and is password protected. Manual files without unique identifier information will be safeguarded and accessed by staff on a need-to-know basis only. HUD and Social Solutions, Inc. (SSI, the Software Provider) will maintain manual files of ETO data without unique identifiers, information that does not allow an individual to be linked to the information in the file in the same manner as personally identifiable information, with proper administrative, and physical controls required to secure, protect, and preserve the integrity of all system generated data, as required under the Privacy Act of 1974. Additionally, hard copy files are stored by grantees (PHAs) in locations that are locked and secured, with access granted to only to a limited number of authorized users.

RETENTION AND DISPOSAL:

Information is archived electronically and stored. Records will be retained and disposed of in accordance with the General Records Schedule included in HUD Handbook 2228.2, appendix 14, items 21-26.

SYSTEM MANAGER(S) AND ADDRESS:

Iyabo Morrison, Public and Indian Housing, Office of Public Housing and Voucher Programs, Department of Housing and Urban Development, 451 Seventh Street, SW., Room 4232, Washington, DC 20410.

NOTIFICATION AND RECORDS ACCESS PROCEDURES:

The Department's rules for providing access to records to the individual concerned are in accordance with 24 CFR part 16—Implementation of the Privacy Act of 1974. Individuals seeking information, assistance, or inquiry about the existence of records should contact the Departmental Privacy Act Officer, Department of Housing and Urban Development, 451 Seventh Street, SW., Room 2256, Washington, DC 20410. Written requests must include the full name, current address, and telephone number of the individual making the request, as well as proof of identity, including a description of the requester's relationship to the information in question.

CONTESTING RECORDS PROCEDURES:

The procedures for contesting the contents of records and appealing initial denials appear in 24 CFR part 16—Implementation of the Privacy Act of 1974. If additional information or assistance is required, contact: (i) The Chief Privacy Officer, Department of Housing and Urban Development, 451 Seventh Street, SW, Room 2256, Washington, DC 20410, if contesting the content of record; or (ii) The Departmental Privacy Appeals Officer, Office of General Counsel, Department of Housing and Urban Development, 451 Seventh Street, SW., Washington, DC 20410, for appeals of initial denials.

RECORD SOURCE CATEGORIES:

DHAP-Ike housing agency grantees, case managers, HUD contractors, sub-contractors, and HUD employees.

EXEMPTION(S):

None.

[FR Doc. 2010-32767 Filed 12-28-10; 8:45 am]

BILLING CODE 4210-67-P